DEPARTMENT OF JUSTICE

[AAG/A Order No. 018-2007]

Justice Management Division; Privacy Act of 1974; System of Records

AGENCY: Justice Management Division, DOJ.

ACTION: Modification to Privacy Act Notice.

SUMMARY: Pursuant to the Privacy Act of 1974 (5 U.S.C. 552a), notice is given that the Department of Justice (JUSTICE), Justice Management Division (JMD), Office of Attorney Recruitment and Management is modifying, in part, a system of records notice entitled “Federal Bureau of Investigation Whistleblower Case Files, JUSTICE/JMD-023,” last published in full text on September 7, 2005, at 70 FR 53253; and modified in part on April 3, 2007, at 72 FR 15906.

DATES: The modification is effective on June 1, 2007.

FOR FURTHER INFORMATION CONTACT: Mary E. Cahill, 202-307-1823.

SUPPLEMENTARY INFORMATION: The Department is making a change in the section of the notice entitled “Retention and Disposal” in order to provide the current retention and disposition schedule approved by the National Archives and Records Administration. The records and disposition schedule given in the last publication of this notice was in error.

Since this is a minor administrative change, notification to Congress and the Office of Management and Budget is not required. The modified text is as follows.

Dated: May 22, 2007.
Lee J. Lofthus,
Assistant Attorney General for Administration.

JUSTICE/JMD-023

SYSTEM NAME:

Federal Bureau of Investigation Whistleblower Case Files.

* * * * *

RETENTION AND DISPOSAL:

PERMANENT. Transfer to the Washington National Records Center two years after closing. Transfer to the National Archives 10 years after closing.

* * * * *

[FR Doc. E7-10523 Filed 5-31-07; 8:45 am]

BILLING CODE 4410-PB-P